DEPARTMENT OF COMMERCE

National Oceanic and Atmospheric Administration

50 CFR Part 679

[Docket No. 141021887-5172-02]

RIN 0648-XD587

Fisheries of the Exclusive Economic Zone Off Alaska; Bering Sea and Aleutian Islands; 2015 and 2016 Harvest Specifications for Groundfish

Correction

In rule document 2015-05041 beginning on page 11919 in the issue of Thursday, March 5, 2015, make the following correction(s):

On page 11921, Table 1 should read:

Table 1-Final 2015 Overfishing Level (OFL), Acceptable Biological Catch (ABC), Total Allowable Catch (TAC), Initial Tac (ITAC), and CDQ Reserve Allocation of Groundfish in the BSAI ¹
[Amounts are in metric tons]
Species | Area | 2015: OFL | 2015: ABC | 2015: TAC | 2015: ITAC ² | 2015: CDQ ³
Pollock ⁴ | BS | 3,330,000 | 1,637,000 | 1,310,000 | 1,179,000 | 131,000
| AI | 36,005 | 29,659 | 19,000 | 17,100 | 1,900
| Bogoslof | 21,200 | 15,900 | 100 | 100 | 0
Pacific cod ⁵ | BS | 346,000 | 255,000 | 240,000 | 214,320 | 25,680
| AI | 23,400 | 17,600 | 9,422 | 8,414 | 1,008
Sablefish | BS | 1,575 | 1,333 | 1,333 | 567 | 183
| AI | 2,128 | 1,802 | 1,802 | 383 | 304
Yellowfin sole | BSAI | 266,400 | 248,800 | 149,000 | 133,057 | 15,943
Greenland turbot | BSAI | 3,903 | 3,172 | 2,648 | 2,251 | n/a
| BS | n/a | 2,448 | 2,448 | 2,081 | 262
| AI | n/a | 724 | 200 | 170 | 0
Arrowtooth flounder | BSAI | 93,856 | 80,547 | 22,000 | 18,700 | 2,354
Kamchatka flounder | BSAI | 10,500 | 9,000 | 6,500 | 5,525 | 0
Rock sole | BSAI | 187,600 | 181,700 | 69,250 | 61,840 | 7,410
Flathead sole ⁶ | BSAI | 79,419 | 66,130 | 24,250 | 21,655 | 2,595
Alaska plaice | BSAI | 54,000 | 44,900 | 18,500 | 15,725 | 0
Other flatfish ⁷ | BSAI | 17,700 | 13,250 | 3,620 | 3,077 | 0
Pacific ocean perch | BSAI | 42,558 | 34,988 | 32,021 | 28,250 | n/a
| BS | n/a | 8,771 | 8,021 | 6,818 | 0
| EAI | n/a | 8,312 | 8,000 | 7,144 | 856
| CAI | n/a | 7,723 | 7,000 | 6,251 | 749
| WAI | n/a | 10,182 | 9,000 | 8,037 | 963
Northern rockfish | BSAI | 15,337 | 12,488 | 3,250 | 2,763 | 0
Rougheye rockfish ⁸ | BSAI | 560 | 453 | 349 | 297 | 0
| BS/EAI | n/a | 149 | 149 | 127 | 0
| CAI/WAI | n/a | 304 | 200 | 170 | 0
Shortraker rockfish | BSAI | 690 | 518 | 250 | 213 | 0
Other rockfish ⁹ | BSAI | 1,667 | 1,250 | 880 | 748 | 0
| BS | n/a | 695 | 325 | 276 | 0
| AI | n/a | 555 | 555 | 472 | 0
Atka mackerel | BSAI | 125,297 | 106,000 | 54,500 | 48,669 | 5,832
| BS/EAI | n/a | 38,492 | 27,000 | 24,111 | 2,889
| CAI | n/a | 33,108 | 17,000 | 15,181 | 1,819
| WAI | n/a | 34,400 | 10,500 | 9,377 | 1,124
Skates | BSAI | 49,575 | 41,658 | 25,700 | 21,845 | 0
Sculpins | BSAI | 52,365 | 39,725 | 4,700 | 3,995 | 0
Sharks | BSAI | 1,363 | 1,022 | 125 | 106 | 0
Squids | BSAI | 2,624 | 1,970 | 400 | 340 | 0
Octopuses | BSAI | 3,452 | 2,589 | 400 | 340 | 0
TOTAL | 4,769,174 | 2,848,454 | 2,000,000 | 1,789,278 | 197,038
¹ These amounts apply to the entire BSAI management area unless otherwise specified. With the exception of pollock, and for the purpose of these harvest specifications, the Bering Sea (BS) subarea includes the Bogoslof District.
² Except for pollock, the portion of the sablefish TAC allocated to hook-and-line and pot gear, and Amendment 80 species, 15 percent of each TAC is put into a reserve. The ITAC for these species is the remainder of the TAC after the subtraction of these reserves. For pollock and Amendment 80 species, ITAC is the non-CDQ allocation of TAC (see footnotes 3 and 5).
³ For the Amendment 80 species (Atka mackerel, flathead sole, rock sole, yellowfin sole, Pacific cod, and Aleutian Islands Pacific ocean perch), 10.7 percent of the TAC is reserved for use by CDQ participants (see §§ 679.20(b)(1)(ii)(C) and 679.31). Twenty percent of the sablefish TAC allocated to hook-and-line gear or pot gear, 7.5 percent of the sablefish TAC allocated to trawl gear, and 10.7 percent of the TACs for Bering Sea Greenland turbot and arrowtooth flounder are reserved for use by CDQ participants (see § 679.20(b)(1)(ii)(B) and (D)). Aleutian Islands Greenland turbot, “other flatfish,” Alaska plaice, Bering Sea Pacific ocean perch, northern rockfish, shortraker rockfish, rougheye rockfish, “other rockfish,” skates, sculpins, sharks, squids, and octopuses are not allocated to the CDQ program.
⁴ Under § 679.20(a)(5)(i)(A)(1), the annual BS subarea pollock TAC after subtracting first for the CDQ directed fishing allowance (10 percent) and second for the incidental catch allowance (4.0 percent), is further allocated by sector for a pollock directed fishery as follows: Inshore—50 percent; catcher/processor—40 percent; and motherships—10 percent. Under § 679.20(a)(5)(iii)(B)(2)(i) and (ii), the annual Aleutian Islands subarea pollock TAC, after subtracting first for the CDQ directed fishing allowance (10 percent) and second for the incidental catch allowance (2,400 mt) is allocated to the Aleut Corporation for a pollock directed fishery.
⁵ The BS Pacific cod TAC is reduced by 3 percent from the combined BSAI ABC to account for the State of Alaska's (State) guideline harvest level in State waters of the Bering Sea subarea. The AI Pacific cod TAC is reduced by 3 percent from the combined BSAI ABC to account for the State guideline harvest level in State waters of the Aleutian Islands subarea.
⁶ “Flathead sole” includes Hippoglossoides elassodon (flathead sole) and Hippoglossoides robustus (Bering flounder).
⁷ “Other flatfish” includes all flatfish species, except for halibut (a prohibited species), flathead sole, Greenland turbot, rock sole, yellowfin sole, arrowtooth flounder, Kamchatka flounder, and Alaska plaice.
⁸ “Rougheye rockfish” includes Sebastes aleutianus (rougheye) and Sebastes melanostictus (blackspotted).
⁹ “Other rockfish” includes all Sebastes and Sebastolobus species except for Pacific ocean perch, northern rockfish, dark rockfish, shortraker rockfish, and rougheye rockfish.
Note: Regulatory areas and districts are defined at § 679.2 (BS=Bering Sea subarea, AI=Aleutian Islands subarea, EAI=Eastern Aleutian district, CAI=Central Aleutian district, WAI=Western Aleutian district.)

[FR Doc. C1-2015-05041 Filed 3-16-15; 8:45 am]

BILLING CODE 1505-01-D